DEPARTMENT OF TRANSPORTATION

Office of the Secretary

Aviation Proceedings, Agreements Filed the Week Ending December 16, 2005

The following Agreements were filed with the Department of Transportation under the Sections 412 and 414 of the Federal Aviation Act, as amended (49 U.S.C. 1382 and 1384) and procedures governing proceedings to enforce these provisions. Answers may be filed within 21 days after the filing of the application.

Docket Number: OST-2005-23336.

Date Filed: December 13, 2005.

Parties: Members of the International Air Transport Association.

Subject:

TC3 Within South East Asia except between Malaysia and Guam (Memo 0904).

Intended effective date: 15 January 2006.

Docket Number: OST-2005-23337.

Date Filed: December 13, 2005.

Parties: Members of the International Air Transport Association.

Subject:

TC3 South East Asia—South West Pacific except between Malaysia and American Samoa (Memo 0905).

Intended Effective Date: 15 January 2006.

Docket Number: OST-2005-23340.

Date Filed: December 13, 2005.

Parties: Members of the International Air Transport Association.

Subject:

TC3 South East Asia—South Asian Subcontinent (Memo 0907). Singapore, 21 November-30 November 2005.

Intended effective date: 15 January 2006.

Docket Number: OST-2005-23341.

Date Filed: December 13, 2005.

Parties: Members of the International Air Transport Association.

Subject:

TC3 Japan, Korea—South East Asia except between Korea (Rep. of) and Guam, Northern Mariana Islands (Memo 0908).

Intended effective date: 15 January 2006.

Docket Number: OST-2005-23346.

Date Filed: December 13, 2005.

Parties: Members of the International Air Transport Association.

Subject:

TC3 Areawide (Memo 0909). Singapore, 21 November-30 November 2005.

Intended effective date: 15 January 2006.

Docket Number: OST-2005-23347.

Date Filed: December 13, 2005.

Parties: Members of the International Air Transport Association.

Subject:

TC23/TC123 Europe—South West Pacific (Memo 0100). Geneva & Teleconference, 15-16 September 2005.

Intended effective date: 1 April 2006.

Tables Fares: TC23 Europe—South West Pacific, South Asian S Subcontinent (Memo 0058).

Minutes: TC23 Europe—South West Pacific, South Asian Subcontinent.

Passenger Tariff Coordinating Conference Geneva, 15-16 September 2005 (Memo 0102).

Intended effective date: 1 April 2006.

Docket Number: OST-2005-23385.

Date Filed: December 16, 2005.

Parties: Members of the International Air Transport Association.

Subject:

TC3 Japan, Korea—South East Asia except between Korea (Rep. of) and Guam, Northern Mariana Islands.

Singapore, 21 November-30 November 2005.

Intended effective date: 1 February 2006.

Docket Number: OST-2005-23386.

Date Filed: December 16, 2005.

Parties: Members of the International Air Transport Association.

Subject:

TC3 Within South East Asia except between Malaysia and Guam.

Singapore, 21 November-30 November 2005.

Intended effective date: 1 February 2006.

Docket Number: OST-2005-23390.

Date Filed: December 16, 2005.

Parties: Members of the International Air Transport Association.

Subject:

TC3 South East Asia—South West Pacific except between Malaysia and American Samoa Singapore, 21 November-30 November 2005 (Memo 0912).

Intended effective date: 1 February 2006.

Docket Number: OST-2005-23403.

Date Filed: December 16, 2005.

Parties: Members of the International Air Transport Association.

Subject:

TC3 Areawide (Memo 0913) Singapore, 21 November-30 November 2005.

Intended effective date: 1 February 2006.

Renee V. Wright,
Program Manager, Docket Operations, Federal Register Liaison.

[FR Doc. E5-7965 Filed 12-27-05; 8:45 am]

BILLING CODE 4910-62-P